FEDERAL COMMUNICATIONS COMMISSION

[OMB 3060-1287; FR ID 201492]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before April 15, 2024. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION:

OMB Control Number: 3060-1287.

Title: Secure Telephone Identity Governance Authority Token Revocation Review Process.

Form Number: N/A.

Type of Review: Extension of a currently-approved information collection.

Respondents: Business or other for-profit entities.

Number of Respondents and Responses: 50 respondents; 50 responses.

Estimated Time per Response: 24 hours.

Frequency of Response: On occasion reporting requirement.

Obligation to Respond: Mandatory and required to obtain or retain benefits. The statutory authority for these collections are contained in 47 U.S.C. 227b, 251(e), and 227(e) of the Communications Act of 1934.

Total Annual Burden: 1,200 hours.

Total Annual Cost: No cost.

Needs and Uses: On December 30, 2019, Congress enacted the Pallone-Thune Telephone Robocall Abuse Criminal Enforcement and Deterrence (TRACED) Act. The TRACED Act directed the Commission to require, no later than 18 months from enactment, all service providers to implement the STIR/SHAKEN caller ID authentication framework in the internet protocol (IP) portions of their networks and implement an effective caller ID authentication framework in the non-IP portions of their networks. To implement the TRACED Act's provisions related to caller ID authentication, the Commission adopted a Report and Order and Further Notice of Proposed Rulemaking on March 30, 2020, which required service providers to implement the STIR/SHAKEN caller ID authentication technology in the IP portions of their phone networks by June 30, 2021. The Commission then adopted a Second Report and Order on September 29, 2020 to further implement the remaining portions of the TRACED Act related to caller ID authentication and STIR/SHAKEN.

On August 5, 2021, the Commission adopted a Third Report and Order, which established a limited role for the Commission to oversee certificate revocation decisions by the private STIR/SHAKEN governance system that would have the effect of placing providers in noncompliance with the Commission's rules. Within the STIR/SHAKEN framework, service providers share a digital certificate along with each call as a means of maintaining trust and accountability. The STIR/SHAKEN governance system can revoke a service provider's access to these digital certificates due to that service provider's violation of a specified list of rules and policies. Because this revocation would place an affected service provider in noncompliance with the Commission's rules, the Third Report and Order established an oversight role for the Commission over the governance system's token revocation decisions similar to the one the Commission holds in the context of decisions by the Universal Service Administrative Company. The rules allow for review by the Wireline Competition Bureau in the first instance.

Under the rules adopted in the Third Report and Order, a request for Commission review from a service provider, at a minimum, must contain: (1) a statement setting forth the service provider's asserted basis for appealing the governance system's revocation decision; (2) a full statement of relevant, material facts with supporting affidavits and documentation, including any background information the service provider deems useful to the Commission's review; and (3) the question presented for review, with reference, where appropriate, to any underlying Commission rule or STIR/SHAKEN governance system policy.

Federal Communications Commission.
Marlene Dortch,
Secretary, Office of the Secretary.

[FR Doc. 2024-02871 Filed 2-12-24; 8:45 am]

BILLING CODE 6712-01-P